DEPARTMENT OF HEALTH AND HUMAN SERVICES

Administration for Children and Families

Proposed Information Collection Activity; Comment Request

Proposed Projects

Title: ADP & Services Conditions for FFP for ACF.

OMB No.: 0970-0417.

Description: State child support agencies are required to establish and operate a federally approved statewide automated data processing and information retrieval system to assist in child support enforcement. States are required to submit an initial advance automated data processing planning document (APD) containing information to assist the Secretary of the Department of Health and Human Services in determining if the state computerized support enforcement system meets federal requirements and providing federal approval. States are also required to submit annually an updated APD for oversight purposes. Based on assessment of the information provided in the initial or updated APDs, states that do not meet federal requirement approval will need to complete an independent verification and validation.

The Advance Planning Document (APD) process, established in the rules at 45 CFR Part 95, Subpart F, is the procedure by which States request and obtain approval for Federal financial participation in their cost of acquiring Automatic Data Processing (ADP) equipment and services. State agencies that submit APD requests provide the Department of Health and Human Services (HHS) with the following information necessary to determine the States' needs to acquire the requested ADP equipment and/or services:

(1) A statement of need;

(2) A requirements analysis and feasibility study;

(3) A procurement plan;

(4) A proposed activity schedule; and,

(5) A proposed budget.

The proposed information collection, is authorized by (1) 42 U.S.C. 654A, which provides a state agency to have a single statewide automated data processing and information retrieval system and sets forth the requirements of that system; (2) 42 U.S.C. 654(16), which provides the state must submit an initial, and annually updated, advance automated data processing planning document for project approval; (3) 45 CFR 307.15, which provides the requirements for approval of advance planning documents; (4) 42 U.S.C. 652(d), which provides the Secretary with the authority to approve an APD and to assess the computerized support enforcement system status; 45 CFR 95.626, which determines when an Independent Verification and Validation must be completed.

HHS' determination of a State Agency's need to acquire requested ADP equipment or services is authorized at sections 602(a(5)), 652(a)(1), 1396(a)(4) and 1302 of United States Code.

Respondents: States.

Annual Burden Estimates
Instrument | Number of respondents | Number of responses per respondent | Average burden hours per response | Total burden hours
RFP and Contract | 4 | 1.5 | 4 | 324
Emergency Funding Request | 5 | .1 | 2 | 1
Biennial Reports | 54 | 1 | 1.50 | 81
Advance Planning Document | 34 | 1.2 | 120 | 4,896
Operational Advance Planning Document | 20 | 1 | 30 | 600
Independent Verification and Validation (ongoing) | 3 | 4 | 10 | 120
Independent Verification and Validation (semiannually) | 1 | 2 | 16 | 32
Independent Verification and Validation (quarterly) | 1 | 4 | 30 | 120
System Certification | 1 | 1 | 240 | 240

Estimated Total Annual Burden Hours: 6,414.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-02175 Filed 1-31-14; 8:45 am]

BILLING CODE 4184-01-P